SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before February 18, 2014.

ADDRESSES: Send all comments regarding whether this information collection is necessary for the proper performance of the function of the agency, whether the burden estimates are accurate, and if there are ways to minimize the estimated burden and enhance the quality of the collection, to John Wade, Financial Analyst, Office of Financial Assistance, Small Business Administration, 409 3rd Street, 8th Floor, Washington, DC 20416.

FOR FURTHER INFORMATION CONTACT: John Wade, Financial Analyst, 202-205-3647, john.wade@sba.gov; Curtis B. Rich, Management Analyst, 202-205-7030, curtis.rich@sba.gov.

Title: “Secondary Market for Section 504 First Mortgage Loan Pool Program”.

Abstract: These forms captures the terms and conditions of the Small Business Administration's (SBA) new Secondary Market for Section 504 First Mortgage Loan Pool Program. SBA needs this information collection in order to identify program participants, terms of financial transactions involving federal government guaranties, and reporting on program efficiency, including the proper use of Recovery Act funds.

Form Numbers: 2401, 2402, 2403, 2404.

Annual Responses: 12,490.

Annual Burden: 33,075.

Curtis Rich,
Management Analyst.

[FR Doc. 2013-30061 Filed 12-17-13; 8:45 am]

BILLING CODE 8025-01-P